DEPARTMENT OF DEFENSE

Office of the Secretary

Federal Advisory Committee; DoD Medicare-Eligible Retiree Health Care Board of Actuaries

AGENCY: Department of Defense (DoD).

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the DoD Medicare-Eligible Retiree Health Care Board of Actuaries will meet on August 18, 2010. Subject to the availability of space, the meeting is open to the public.

DATES: The meeting will be held on August 18, 2010, from 1 to 5 p.m.

ADDRESSES: The meeting will be held at 4040 N. Fairfax Drive, Suite 250, Arlington, VA 22203.

FOR FURTHER INFORMATION CONTACT: Margot Kaplan at the DoD Office of the Actuary, 4040 N. Fairfax Drive, Suite 308, Arlington, VA 22203; phone 703-696-7404.

SUPPLEMENTARY INFORMATION:

Purpose

During the meeting the Board will execute the provisions of chapter 56, title 10, United States Code (10 U.S.C. 1114 et seq.). The Board shall review DoD actuarial methods and assumptions to be used in the valuation of benefits under DoD retiree health care programs for Medicare-eligible beneficiaries.

Agenda

—Meeting objective (Board)

Approve actuarial assumptions and methods needed for calculating:

a. FY 2012 per capita full-time and part-time normal cost amounts

b. September 30, 2009 unfunded liability (UFL)

c. October 1, 2010 Treasury UFL amortization payment and normal cost payment

—Trust Fund Update (DFAS)

—Medicare-Eligible Retiree Health Care Fund Update (TRICARE Management Activity)

—September 30, 2008 Actuarial Valuation Results (DoD Office of the Actuary)

—September 30, 2009 Actuarial Valuation (DoD Office of the Actuary)

—Decisions (Board)

Approve actuarial assumptions and methods needed for calculating:

a. FY 2012 per-capita full-time and part-time normal cost amounts

b. September 30, 2009 UFL

c. October 1, 2010, Treasury UFL amortization payment and normal cost payment

Oral Presentations/Written Statements

Persons desiring to make an oral presentation or submit a written statement for consideration at the meeting must notify Margot Kaplan (see FOR FURTHER INFORMATION CONTACT) by July 21, 2010.

Public Accessibility to the Meeting

Pursuant to 5 U.S.C. 552b and 41 CFR 102-3.140 through 102-3.165 and the availability of space, this meeting is open to the public. Seating is on a first-come basis.

Persons desiring to attend the meeting must notify Margot Kaplan (see FOR FURTHER INFORMATION CONTACT) by July 21, 2010.

Dated: February 4, 2010.
Mitchell S. Bryman,
Alternate OSD Federal Register Liaison Officer, Department of Defense.

[FR Doc. 2010-2751 Filed 2-8-10; 8:45 am]

BILLING CODE 5001-06-P